NATIONAL SCIENCE FOUNDATION

Sunshine Act Meeting; National Science Board

The National Science Board's Awards and Facilities Committee, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Wednesday, April 3, 2019, from 8:00-9:00 and 10:00-11:00 a.m. EDT.

PLACE: This meeting will be held by teleconference at the National Science Foundation, 2415 Eisenhower Ave., Alexandria, VA 22314.

STATUS: Closed.

MATTERS TO BE CONSIDERED: The agenda for the first session is: Share of the NSF budget for Research Infrastructure (RI); Changes to the RI portfolio; and Use of Major Research Equipment and Facility Construction (MREFC) and Research and Related Activities (R&RA) lines for central Operations and Maintenance (O&M) funding. The agenda for the second session is: NSF's processes and timetable for making the inaugural set of mid-scale awards; Community response to the mid-scale solicitations; and NSF's plans for mid-scale program oversight.

CONTACT PERSON FOR MORE INFORMATION: Point of contact for this meeting is: Elise Lipkowitz, elipkowi@nsf.gov, telephone: (703) 292-7000. Meeting information and updates may be found at http://www.nsf.gov/nsb/meetings/notices.jsp#sunshine. Please refer to the National Science Board website www.nsf.gov/nsb for general information.

Chris Blair,
Executive Assistant to the NSB Office.

[FR Doc. 2019-06270 Filed 3-27-19; 4:15 pm]

BILLING CODE 7555-01-P